DEPARTMENT OF COMMERCE

Foreign-Trade Zones Board

[Order No. 1103]

Termination of Foreign-Trade SubZone 121B Rensselaer, New York

Pursuant to the authority granted in the Foreign-Trade Zones Act of June 18, 1934, as amended (19 U.S.C. 81a-81u), and the Foreign-Trade Zones Board Regulations (15 CFR Part 400), the Foreign-Trade Zones Board has adopted the following order:

Whereas, on December 12, 1995, the Foreign-Trade Zones Board issued a grant of authority to the Capital District Regional Planning Commission, authorizing the establishment of Foreign-Trade Subzone 121B at the BASF Corporation plant in Rensselaer, New York (Board Order 794, 61 FR 1322, 1/19/96);

Whereas, the Commission advised the Board on August 31, 1999 (FTZ Docket 13-2000), that zone procedures were no longer needed at the facility and requested voluntary termination of Subzone 121B;

Whereas, the request has been reviewed by the FTZ Staff and the Customs Service, and approval has been recommended;

Now, therefore, the Foreign-Trade Zones Board terminates the subzone status of Subzone No. 121B, effective this date.

Signed at Washington, DC, this 12th day of June, 2000.
Troy H. Cribb,
Acting Assistant Secretary for Import Administration, Alternate Chairman, Foreign-Trade Zones Board.

Dennis Puccinelli,
Acting Executive Secretary.

[FR Doc. 00-15404 Filed 6-16-00; 8:45 am]

BILLING CODE 3510-DS-P